SMALL BUSINESS ADMINISTRATION

National Small Business Development Center Advisory Board Public Meeting

The U.S. Small Business Administration (SBA) National Small Business Development Center (SBDC) Advisory Board will be hosting a public annual meeting. The meeting will be held on Monday, June 26, 2006 from 4 p.m. to 5:30 p.m. Pacific time. The meeting will take place at the SBA San Diego District Office, 550 West C Street, Suite 550, San Diego, California 92101.

The purpose of the meeting is to discuss advisory board matters that may be presented by members, and the staff of the U.S. Small Business Administration (SBA), with a view towards constructively advancing and improving national and local SBDC program operations.

Anyone wishing to attend the National Small Business Development Center Advisory Board Meeting must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. E6-8687 Filed 6-5-06; 8:45 am]

BILLING CODE 8025-01-P